DEPARTMENT OF AGRICULTURE

Food Safety and Inspection Service

[Docket No. FSIS-2021-0010]

National Advisory Committee on Microbiological Criteria for Foods

AGENCY: Food Safety and Inspection Service, USDA.

ACTION: Notice of public meeting.

SUMMARY: This notice is announcing that the National Advisory Committee on Microbiological Criteria for Foods (NACMCF) will hold a public meeting of the full Committee on April 22, 2021. The Committee will discuss and vote on adopting the following two reports: Microbiological testing by industry of ready-to-eat foods under FDA's jurisdiction for pathogens (or appropriate indicator organisms): Verification of prevention controls and The Use of Water in Animal Production, Slaughter and Processing.

DATES: The full Committee will hold an open meeting on Thursday, April 22, 2021, from 9:30 a.m. to 12:30 p.m. Submit comments on or before June 7, 2021.

ADDRESSES: The Committee meeting will be held virtually. Attendees must pre-register at https://ems8.intellor.com?do=register&t=1&p=838073 to receive a join link, dial-in number, access code, and unique Attendee ID for the event.

The NACMCF documents for adoption will be available at https://www.fsis.usda.gov/wps/portal/fsis/topics/regulations/federal-register/federal-register-notices. FSIS invites interested persons to submit comments on the meeting documents. Comments may be submitted by one of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or courier-delivered submittals: Deliver to 1400 Independence Avenue SW, Jamie L. Whitten Building, Room 350-E, Washington, DC 20250-3700. Instructions: All items submitted by mail or electronic mail must include the Agency name and docket number FSIS-2021-0010. Comments received in response to this docket will be made available for public inspection and posted without change, including any personal information, to https://www.regulations.gov.

Docket: For access to background documents or comments received, call (202) 720-5627 to schedule a time to visit the FSIS Docket Room at 1400 Independence Avenue SW, Washington, DC 20250-3700.

Agenda: FSIS will finalize an agenda on or before the meeting date and post it on the FSIS web page at https://www.fsis.usda.gov/wps/portal/fsis/newsroom/meetings

• Please note that the meeting agenda is subject to change due to the time required for reviewing and adopting the reports; thus, sessions could end earlier or later than anticipated. Please plan accordingly if you would like to attend this meeting or participate in the public comment period.

Also, the official transcript of the April 22, 2021 Committee meeting, when it becomes available, will be kept in the FSIS Docket Room and will also be posted on https://www.fsis.usda.gov/wps/portal/fsis/topics/data-collection-and-reports/nacmcf/meetings/nacmcf-meetings.

The mailing and Email address for the contact person is: Laarina Mullings, USDA, FSIS, Office of Public Health Science, 1400 Independence Avenue SW, Whitten Building Room 341E, Washington, DC 20250; Email: laarina.mullings@usda.gov.

FOR FURTHER INFORMATION CONTACT: Persons interested in providing comments at the April 22 plenary session should contact Laarina Mullings: Phone: (202) 720-2644; Email: laarina.mullings@usda.gov.

Sign Language Interpretation: Persons requiring a sign language interpreter or other special accommodations should notify Ms. Mullings by April 14, 2021.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available for viewing on the FSIS internet web page at https://www.fsis.usda.gov/wps/portal/fsis/topics/data-collection-and-reports/nacmcf/committee-charter.

The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides scientific advice and recommendations to the Centers for Disease Control and Prevention and the Departments of Commerce and Defense.

Mrs. Sandra Eskin, Deputy Under Secretary for Food Safety, USDA, is the Acting Committee Chair; Dr. Susan T. Mayne, Director of the Food and Drug Administration's Center for Food Safety and Applied Nutrition (CFSAN), is the Vice-Chair; and Mr. John J. Jarosh, FSIS, is the Director of the NACMCF Secretariat and Designated Federal Officer.

Documents Reviewed by NACMCF

FSIS will make the draft reports considered by NACMCF regarding its deliberations available to the public prior to the Plenary Session on the FSIS web page.

Disclaimer: NACMCF documents and comments posted on the FSIS website are electronic conversions from a variety of source formats. In some cases, document conversion may result in character translation or formatting errors. The original document is the official, legal copy.

In order to meet the electronic and information technology accessibility standards in Section 508 of the Rehabilitation Act, NACMCF may add alternate text descriptors for non-text elements (graphs, charts, tables, multimedia, etc.). These modifications only affect the internet copies of the documents.

Copyrighted documents will not be posted on the FSIS website, but will be available for inspection in the FSIS Docket Room.

Additional Public Notification

Public awareness of all segments of rulemaking and policy development is important. Consequently, FSIS will announce this Federal Register publication on-line through the FSIS web page located at: https://www.fsis.usda.gov/federal-register.

FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS is able to provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Nondiscrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at How to File a Program Discrimination Complaint and at any USDA office or write a letter addressed to USDA and provide in the letter all of the information requested in the form. To request a copy of the complaint form, call (866) 632-9992. Submit your completed form or letter to USDA by: (1) Mail: U.S. Department of Agriculture, Office of the Assistant Secretary for Civil Rights, 1400 Independence Avenue SW, Washington, DC 20250-9410; (2) fax: (202) 690-7442; or (3) email: program.intake@usda.gov.

USDA is an equal opportunity provider, employer, and lender.

Done at Washington, DC, on March 31, 2021.
Cikena Reid,
USDA Committee Management Officer.

[FR Doc. 2021-06993 Filed 4-5-21; 8:45 am]

BILLING CODE 3410-DM-P